DEPARTMENT OF HEALTH AND HUMAN SERVICES

Centers for Disease Control and Prevention

[Docket Number NIOSH-144]

Notice of Request for Public To Submit Comments; Extension of Comment Period

AGENCY: National Institute for Occupational Safety and Health (NIOSH) of the Centers for Disease Control and Prevention (CDC), Department of Health and Human Services (HHS).

ACTION: Extension of public comment period.

SUMMARY: The National Institute for Occupational Safety and Health (NIOSH) of the Centers for Disease Control and Prevention (CDC) announced the availability of a draft document available for public comment entitled “NIOSH Criteria Document Update: Occupational Exposure to Hexavalent Chromium” on October 17, 2008, as well as a public meeting to be held on January 22, 2009. The document and instructions for submitting comments can be found at http://www.cdc.gov/niosh/review/public/144/. Comments were to be provided to the NIOSH docket by January 31, 2009, as well as given orally at the public meeting. A request has been received to extend the comment period to permit the public more time to gather and submit information.

Accordingly, NIOSH is extending the public comment period by 60 days to March 31, 2009.

DATES: Written comments to NIOSH must be sent or postmarked by March 31, 2009. The public meeting will still take place on January 22, 2009, at Robert A. Taft Laboratories, Taft Auditorium, NIOSH, CDC, 4676 Columbia Parkway, Cincinnati, OH 45226-1998.

Status: The public meeting will include scientists and representatives from various government agencies, industry, labor, and other stakeholders, and is open to the public, limited only by the space available. The meeting room accommodates 80 people. Persons wanting to attend or provide oral comments at the meeting were requested to notify the NIOSH Docket Office no later than January 7, 2009, at (513) 533-8611 or by e-mail at nioshdocket@cdc.gov.

Persons wanting to provide oral comments will be permitted up to 20 minutes. If additional time becomes available, presenters will be notified. Oral comments given at the meeting must also be submitted to the docket in writing in order to be considered by the Agency. Written comments will also be accepted at the meeting. Written comments may also be submitted to the NIOSH Docket Office, Robert A. Taft Laboratories, 4676 Columbia Parkway, MS-C34, Cincinnati, Ohio 45226, telephone (513) 533-8611. All material submitted to the Agency should reference docket number NIOSH-144 and must be submitted by March 31, 2009, to be considered by the Agency. All electronic comments should be formatted as Microsoft Word. Please make reference to docket number NIOSH-144.

All information received in response to this notice will be available for public examination and copying at the NIOSH Docket Office, Room 111, 4676 Columbia Parkway, Cincinnati, Ohio 45226.

Contact Persons For Technical Information: Kathleen MacMahon, DVM; (513) 533-8547; MS-C32, Robert A. Taft Laboratories, 4676 Columbia Parkway, Cincinnati, OH, 45226-1998.

Dated: January 16, 2009.
James D. Seligman,
Chief Information Officer, Centers for Disease Control and Prevention.

[FR Doc. E9-1694 Filed 1-26-09; 8:45 am]

BILLING CODE 4163-18-P